DEPARTMENT OF TRANSPORTATION

Federal Aviation Administration

RTCA Program Management Committee Meeting

AGENCY: Federal Aviation Administration (FAA), U.S. Department of Transportation (DOT).

ACTION: RTCA PMC RTCA Program Management Committee Meeting.

SUMMARY: The FAA is issuing this notice to advise the public of a meeting of RTCA Program Management Committee Meeting.

DATES: The meeting will be held May 31, 2017 8:30 a.m.-12:30 p.m.

ADDRESSES: The meeting will be held at: RTCA Headquarters, 1150 18th Street NW., Suite 910, Washington, DC 20036.

FOR FURTHER INFORMATION CONTACT: Karan Hofmann at khofmann@rtca.org or 202-330-0680, or The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of the RTCA Program Management Committee Meeting. The agenda will include the following:

Wednesday, May 31, 2017 8:30 a.m.-12:30 p.m.

1. Welcome and Introductions

2. Review/Approve

A. Meeting Summary December 15, 2016

B. Administrative Special Committee TOR Revisions

3. Publication Consideration/Approval

A. Final Draft, Revision to DO-262B—Minimum Operational Performance Standards for Avionics Support Next Generation Satellite Systems (NGSS), prepared by SC-222

B. Final Draft, Revision to DO-343—Minimum Aviation System Performance Standard for AMS(R)S Data and Voice Communications Supporting Required Communications Performance (RCP) and Required Surveillance Performance (RSP), prepared by SC-222

C. Final Draft, New Document—Detect and Avoid Minimum Operational Performance Standards Phase I (DAA MOPS), prepared by SC-228

D. Final Draft, New Document—Minimum Operational Performance Standards (MOPS) for Air-to-Air Radar Detect and Avoid (DAA) Systems Phase 1, prepared by SC-228

E. Final Draft, Interim Report—Recommendations on the Feasibility to Standardize In-Flight Radar Long Range Ice Crystals Weather Awareness Function, prepared by SC-230

F. Final Draft, New Document—Minimum Operational Performance Standards (MOPS) for TAWS, prepared by SC-231

4. Integration and Coordination Committee (ICC)

A. Suggested Changes to MOPS/MASPS Drafting Guides—Update

5. Past Action Item Review

A. Set up of PMC “Lite” for May—Status

B. Support for SC-214 TOR revision—Status

C. Redistribution/Relook at EUROCAE WG-106 TOR—Status

D. Cross Cutting Committee Activity—Update

a. Test Run of Possible Process

b. Evaluation of EFB as joint activity with EUROACE WG-106

E. Implementation Procedure for new MOPS/MASPS/SPR Drafting Guides—Update

F. PMC Membership Review—Update

G. Recommendation for SC-230 Report Publication—Status

H. Availability of documents as reference for selected EUROCAE WGs—Status

6. Discussion

A. SC-214—Standards for Air Traffic Data Communications Services—Discussion—Revised TOR

B. SC-222—AMS(R)S Systems—Discussion—Revised TOR

C. SC-230—Airborne Weather Detection Systems—Discussion—Revised TOR

7. Other Business

8. Schedule for Committee Deliverables and Next Meeting Date

9. New Action Item Summary

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on May 11, 2017.
Mohannad Dawoud,
Management & Program Analyst, Partnership Contracts Branch, ANG-A17, NextGen, Procurement Services Division, Federal Aviation Administration.

[FR Doc. 2017-09917 Filed 5-16-17; 8:45 am]

BILLING CODE 4910-13-P